ENVIRONMENTAL PROTECTION AGENCY

[ER-FRL-9011-5]

Environmental Impacts Statements; Notice of Availability

Responsible Agency: Office of Federal Activities, General Information (202) 564-7146 or http://www.epa.gov/compliance/nepa/.

Weekly receipt of Environmental Impact Statements

Filed 09/23/2013 through 09/27/2013

Pursuant to 40 CFR 1506.9.

Notice

Section 309(a) of the Clean Air Act requires that EPA make public its comments on EISs issued by other Federal agencies. EPA's comment letters on EISs are available at: http://www.epa.gov/compliance/nepa/eisdata.html.

EIS No. 20130287, Final EIS, USFS, ID, Idaho Panhandle National Forests, Revised Land Management Plan, Review Period Ends: 11/26/2013, Contact: Mary Farnsworth 208-765-7223.

The above document was inadvertently omitted from EPA's Federal Register Notice Published 09/27/2013. The review/wait period will start 09/27/2013 and end 11/26/2013.

EIS No. 20130288, Final EIS, USACE, TX, Luce Bayou Interbasin Transfer Project, Review Period Ends: 11/04/2013, Contact: Jayson Hudson 409-766-3108.

EIS No. 20130289, Draft EIS, USACE, CA, Los Angeles River Ecosystem Restoration Integrated Feasibility Report, Comment Period Ends: 11/18/2013, Contact: Erin Jones 213-300-9723.

EIS No. 20130290, Draft EIS, NPS, CA, Restoration of Native Species in High Elevation Aquatic Ecosystems Plan, Sequoia and Kings Canyon National Parks, Comment Period Ends: 11/25/2013, Contact: Woodrow Smeck 559-565-3101.

EIS No. 20130291, Final EIS, BOEM, 00, Gulf of Mexico OCS Oil and Gas Lease Sales: 2014 and 2016; Eastern Planning Area Lease Sales 225 and 226, Review Period Ends: 11/04/2013, Contact: Gary Goeke 504-736-3233.

EIS No. 20130292, Final Supplement, DOE, NM, Long-Term Management and Storage of Elemental Mercury, Review Period Ends: 11/04/2013, Contact: David Levenstein 301-903-6500.

EIS No. 20130293, Final EIS, BLM, ID, Jump Creek, Succor Creek, and Cow Creek Watersheds Grazing Permit Renewal, Review Period Ends: 11/04/2013, Contact: Jake Vialpando 208-373-3814.

EIS No. 20130294, Final EIS, USACE, MA, South Coast Rail Project, Review Period Ends: 11/04/2013, Contact: Alan R. Anacheka-Nasemann 978-318-8214.

EIS No. 20130295, Final EIS, USAF, UT, United States Air Force F-35A Operational Basing, Review Period Ends: 11/04/2013, Contact: Nicholas Germanos 757-764-5007.

EIS No. 20130296, Final EIS, AFS, WY, Sherman Cattle and Horse Allotment Grazing Authorization and Management Project, Review Period Ends: 11/15/2013, Contact: Chad Hayward 307-276-5817.

EIS No. 20130297, Draft EIS, USACE, LA, Calcasieu Lock Louisiana Feasibility Study, Comment Period Ends: 11/18/2013, Contact: Timothy K. George 314-331-8459.

EIS No. 20130298, Final EIS, NRCS, AR, ADOPTION—Bayou Meto Basin, Arkansas General Reevaluation Project, Contact: Charlotte Bowie 501-301-3148.

The U.S. Department of Agriculture's Natural Resources Conservation Service (NRCS) has adopted the U.S. Army Corps of Engineers' FEIS #20060499, filed 11/30/2006. The NRCS was a cooperating agency. Recirculation of the document is not necessary under Section 1506.3(b) of the Council of Environmental Quality Regulations.

EIS No. 20130299, Final EIS, NRCS, AR, ADOPTION—Grand Prairie Area Demonstration Project, Contact: Charlotte Bowie 501-301-3148.

The U.S. Department of Agriculture's Natural Resources Conservation Service (NRCS) has adopted the U.S. Army Corps of Engineers' FEIS #19990465, filed 12/08/1999. The NRCS was a cooperating agency. Recirculation of the document is not necessary under Section 1506.3(b) of the Council of Environmental Quality Regulations.

Amended Notices

EIS No. 20130087, Draft EIS, BLM, NM, TriCounty Resource Management Plan, Comment Period Ends: 10/15/2013, Contact: Jennifer Montoya 575-525-4316. Revision to FR Notice Published 04/12/2013; Extending Comment Period from 07/11/2013 to 10/15/2013.

Dated: September 30, 2013.
Cliff Rader,
Director, NEPA Compliance Division, Office of Federal Activities.

[FR Doc. 2013-24315 Filed 10-3-13; 8:45 am]

BILLING CODE 6560-50-P